DEPARTMENT OF LABOR

Employment and Training Administration

[TA-W-85,617]

Day & Zimmermann, Inc., Kansas Division, Parsons, Kansas; Notice of Negative Determination on Reconsideration

On December 17, 2014, the Department of Labor issued an Affirmative Determination Regarding Application for Reconsideration for the workers and former workers of Day & Zimmermann, Inc., Parsons, Kansas. The notice was published in the Federal Register on December 31, 2014 (79 FR 78911).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that the subject firm did not import high explosive mortar rounds and demolition charges or shift production to a foreign country of such articles.

In the request for reconsideration, the Kansas Department of Commerce alleged workers at the subject firm had been impacted by foreign competition as production that could have taken place at the subject firm had instead been awarded to a firm in Canada.

According to 29 CFR 90.2, increased imports means that imports have increased either absolutely or relative to domestic production compared to a representative base period. The representative base period shall be one year consisting of the four quarters immediately preceding the date which is twelve months prior to the date of the petition. This petition was filed in October 2014. Therefore, the period under investigation is 2012, 2013, January through September 2013, and January through September 2014.

During the reconsideration investigation, the Department collected additional information from the subject firm and the customer of the subject firm.

The information obtained confirmed that neither the subject firm nor its customer increased imports of articles like or directly competitive with high explosive mortar rounds and demolition charges. Additionally, the production of such articles did not shift to a foreign country in the period under investigation.

Therefore, after careful review of the request for reconsideration, the Department determines that 29 CFR 90.18(c) has not been met.

Conclusion

After careful review, I determine that the requirements of Section 222 of the Act, 19 U.S.C. 2272, have not been met and, therefore, deny the petition for group eligibility of Day & Zimmermann, Inc., Parsons, Kansas, to apply for adjustment assistance, in accordance with Section 223 of the Act, 19 U.S.C. 2273.

Signed in Washington, DC on this 26th day of February 2015.
Michael W. Jaffe,
Certifying Officer, Office of Trade Adjustment Assistance.

[FR Doc. 2015-06246 Filed 3-18-15; 8:45 am]

BILLING CODE 4510-FN-P